DEPARTMENT OF THE INTERIOR

Fish and Wildlife Service

[FWS-R7-FHC-2013-N047; FF07CAMM00.FX.FR133707PB000]

Letters of Authorization To Take Marine Mammals

AGENCY: Fish and Wildlife Service, Interior.

ACTION: Notice of Issuance.

SUMMARY: In accordance with the Marine Mammal Protection Act of 1972, as amended (MMPA), the U.S. Fish and Wildlife Service (Service, or we), has issued letters of authorization for the nonlethal take of polar bears and Pacific walrus incidental to oil and gas industry exploration, development, and production activities in the Beaufort Sea and the adjacent northern coast of Alaska and incidental to oil and gas industry exploration activities in the Chukchi Sea and the adjacent western coast of Alaska. These letters of authorization stipulate conditions and methods that minimize impacts to polar bears and Pacific walrus from these activities.

FOR FURTHER INFORMATION CONTACT: Craig Perham at the U.S. Fish and Wildlife Service, Marine Mammals Management Office, 1011 East Tudor Road, MS 341, Anchorage, AK 99503; (800) 362-5148 or (907) 786-3810.

SUPPLEMENTARY INFORMATION: On August 3, 2011, we published in the Federal Register a final rule (76 FR 47010) establishing regulations that allow us to authorize the nonlethal, incidental, unintentional take of small numbers of polar bears and Pacific walrus during year-round oil and gas industry exploration, development, and production activities in the Beaufort Sea and adjacent northern coast of Alaska. The rule established subpart J in part 18 of title 50 of the Code of Federal Regulations (CFR) and is effective through August 3, 2016. The rule prescribed a process under which we issue Letters of Authorization (LOAs) to applicants conducting activities as described under the provisions of the regulations.

Each LOA stipulates conditions or methods that are specific to the activity and location. Holders of LOAs must use methods and conduct activities in a manner that minimizes to the greatest extent practicable adverse impacts on Pacific walrus and polar bears, their habitat, and on the availability of these marine mammals for subsistence purposes. Intentional take and lethal incidental take is prohibited.

In accordance with section 101(a)(5)(A) of the MMPA (16 U.S.C. 1361 et seq.) and our regulations at 50 CFR 18, subpart J, we issued LOAs to each of the following companies in the Beaufort Sea and adjacent northern coast of Alaska:

Beaufort Sea Letters of Authorization
Company | Activity | Project | Date issued
Alyeska Pipeline Service Company | Production | Trans-Alaska Pipeline Operation & Maintenance | November 15, 2011.
Alyeska Pipeline Service Company | Production | Trans-Alaska Pipeline Operation & Maintenance | December 11, 2012.
BP Exploration Alaska, Inc. | Exploration | Summer Seismic Survey | August 3, 2011.
BP Exploration Alaska, Inc. | Production | North Slope Production | August 3, 2011.
BP Exploration Alaska, Inc. | Development | Liberty Development Project | January 10, 2012.
BP Exploration Alaska, Inc. | Development | Red Dog #1 Plug and Abandonment Project | January 10, 2012.
BP Exploration Alaska, Inc. | Exploration | Simpson Lagoon Seismic Survey | July 16, 2012.
Brooks Range Petroleum Corporation | Exploration | North Tarn/Mustang Exploration Program | November 20, 2011.
Brooks Range Petroleum Corporation | Exploration | Tofcat Exploration Program | February 1, 2012.
Brooks Range Petroleum Corporation | Exploration | Mustang Exploration Program | January 15, 2013.
CGGVeritas | Exploration | Tabasco 3D Seismic Survey | November 30, 2011.
CGGVeritas | Exploration | Great Bear 3D Seismic Survey | March 19, 2012.
CGGVeritas | Exploration | Great Bear Winter 3D Seismic Survey | February 1, 2013.
ConocoPhillips Alaska, Inc | Production | North Slope Production | August, 3, 2011.
ConocoPhillips Alaska, Inc | Exploration | Hydrate Production Test, Ignik Sikumi I, Prudhoe Bay Unit | December 1, 2011.
ConocoPhillips Alaska, Inc | Development | Hemi Springs Plug and Abandonment Program | January 15, 2012.
ConocoPhillips Alaska, Inc | Development | North Staines River #1 Well Inspection | March 19, 2012.
ConocoPhillips Alaska, Inc | Development | Gravel Borehole Project | March 19, 2012.
ConocoPhillips Alaska, Inc. | Exploration | Winter Exploration Drilling Program | December 15, 2012.
Eni US Operating Co., Inc. | Development | Nikaitchuq Development Project | August 15, 2012.
ExxonMobil Production Company | Exploration | Prudhoe Bay Bathymetry & Noise Monitoring Survey | April 1, 2012.
ExxonMobil Production Company | Development | Point Thomson | February 1, 2012.
ExxonMobil Production Company | Development | Point Thomson | February 1, 2013.
Great Bear Petroleum, LLC | Exploration | Great Bear Exploration and Evaluation Program | January 19, 2012.
Ion Geophysical | Exploration | 2D Seismic Survey | October 17, 2012.
North Slope Borough | Development | Gas Fields Well Drilling Program | May 1, 2012.
Olgoonik Fairweather, LLC | Exploration | Beaufort Sea Acoustic Monitoring Recorder Deployment and Retrieval Project | July 15, 2012.
Olgoonik Fairweather, LLC | Exploration | Marine Fish Transboundary Cruise Environmental Studies Program | September 19, 2012.
Pioneer Natural Resources Alaska, Inc. | Production | North Slope Production | August 3, 2011.
Pioneer Natural Resources Alaska, Inc. | Exploration | North Slope Exploration Program | October 17, 2011.
Pioneer Natural Resources Alaska, Inc. | Development | Nuna Development Program | April 20, 2012.
Repsol E&P USA, Inc. | Exploration | Colville River Delta Winter Drilling | December 7, 2011.
Repsol E&P USA, Inc. | Exploration | Colville River Delta Winter Drilling | February 7, 2013.
Savant Alaska, LLC | Development | Badami Unit Redevelopment Project | April 15, 2012.
Shell Offshore, Inc. | Exploration | Beaufort Sea Ice Observation and On-Ice Argos Data Buoy Deployment Program | January 10, 2012.
Shell Offshore, Inc. | Exploration | Beaufort Sea Open Water Marine Survey Program and Onshore Environmental Baseline Study Activities. | June 4, 2012.
Shell Offshore, Inc. | Exploration | Camden Bay OCS Exploration Drilling | June 4, 2012.
Shell Offshore, Inc. | Exploration | Beaufort Sea Ice Observation and On-Ice Argos Data Buoy Deployment Program | January 1, 2013.

On June 11, 2008, we published in the Federal Register a final rule (73 FR 33212) establishing regulations that allow us to authorize the nonlethal, incidental, unintentional take of small numbers of polar bears and Pacific walrus during year-round oil and gas industry exploration activities in the Chukchi Sea and adjacent western coast of Alaska. The rule established subpart I of 50 CFR part 18 and is effective until June 11, 2013. The process under which we issue LOAs to applicants and the requirements that the holders of LOAs must follow is the same as described above for LOAs issued under 50 CFR 18, subpart J.

In accordance with section 101(a)(5)(A) of the MMPA and our regulations at 50 CFR 18, subpart I, we issued LOAs to the following companies in the Chukchi Sea:

Chukchi Sea Letters of Authorization
Company | Activity | Project | Date issued
Olgoonik Fairweather, LLC | Exploration | Chukchi Sea Baseline Environmental Studies Program | July 15, 2012.
Shell Offshore, Inc. | Exploration | Chukchi Sea Ice Observation Flights Program | January 10, 2012.
Shell Offshore, Inc. | Exploration | Chukchi Sea Coastal Marine and Onshore Environmental Baseline Study | June 4, 2012.
Shell Offshore, Inc. | Exploration | Chukchi Sea OCS Exploratory Drilling Program | June 4, 2012.
Shell Offshore, Inc. | Exploration | Chukchi Sea Ice Observation Flights Program | February 1, 2013.

Dated: March 12, 2013.
Geoffrey Haskett,
Regional Director, Alaska Region.

[FR Doc. 2013-07339 Filed 3-28-13; 8:45 am]

BILLING CODE 4310-55-P